DEPARTMENT OF COMMERCE

International Trade Administration

[A-570-986]

Hardwood and Decorative Plywood From the People's Republic of China: Antidumping Duty Investigation

AGENCY: Import Administration, International Trade Administration, Department of Commerce.

DATES: Effective Date: May 3, 2013.

SUMMARY: The Department of Commerce (“Department”) preliminarily determines that hardwood and decorative plywood (“plywood”) from the People's Republic of China (“PRC”) is being, or is likely to be, sold in the United States at less than fair value (“LTFV”), as provided in section 733 of the Tariff Act of 1930, as amended (“the Act”). The period of investigation (“POI”) is January 1, 2012, through June 30, 2012. The estimated margins of sales at LTFV are shown in the “Preliminary Determination” section of this notice. The final determination will be issued 75 days after publication of this preliminary determination in the Federal Register.

FOR FURTHER INFORMATION CONTACT: Katie Marksberry or Kabir Archuletta, AD/CVD Operations, Office 9, Import Administration, International Trade Administration, U.S. Department of Commerce, 14th Street and Constitution Avenue NW., Washington, DC 20230; telephone: (202) 482-7906 or (202) 482-2593, respectively.

SUPPLEMENTARY INFORMATION:

Scope of the Investigation

The merchandise subject to this investigation is hardwood and decorative plywood. Hardwood and decorative plywood is a flat panel composed of an assembly of two or more layers or plies of wood veneers in combination with a core. The veneers, along with the core, are glued or otherwise bonded together to form a finished product. A hardwood and decorative plywood panel must have face and back veneers which are composed of one or more species of hardwoods, softwoods, or bamboo. Hardwood and decorative plywood may include products that meet the American National Standard for Hardwood and Decorative Plywood, ANSI/HPVA HP-1-2009.

All hardwood and decorative plywood is included within the scope of this investigation, without regard to dimension (overall thickness, thickness of face veneer, thickness of back veneer, thickness of core, thickness of inner veneers, width, or length). However, the most common panel sizes of hardwood and decorative plywood are 1219 × 1829 mm (48 × 72 inches), 1219 × 2438 mm (48 × 96 inches), and 1219 × 3048 mm (48 × 120 inches).

A “veneer” is a thin slice of wood which is rotary cut, sliced or sawed from a log, bolt or flitch. The face veneer is the exposed veneer of a hardwood and decorative plywood product which is of a superior grade than that of the back veneer, which is the other exposed veneer of the product (i.e., as opposed to the inner veneers). When the two exposed veneers are of equal grade, either one can be considered the face or back veneer. For products that are entirely composed of veneer, such as Veneer Core Platforms, the exposed veneers are to be considered the face and back veneers, in accordance with the descriptions above.

The core of hardwood and decorative plywood consists of the layer or layers of one or more material(s) that are situated between the face and back veneers. The core may be composed of a range of materials, including but not limited to veneers, particleboard, and medium-density fiberboard (“MDF”).

All hardwood and decorative plywood is included within the scope of this investigation regardless of whether or not the face and/or back veneers are surface coated, unless the surface coating obscures the grain, texture or markings of the wood. Examples of surface coatings which may not obscure the grain, texture or markings of the wood include, but are not limited to, ultra-violet light cured polyurethanes, oil or oil-modified or water based polyurethanes, wax, epoxy-ester finishes, and moisture-cured urethanes. Hardwood and decorative plywood that has face and/or back veneers which have an opaque surface coating which obscures the grain, texture or markings of the wood, are not included within the scope of this investigation. Examples of surface coatings which may obscure the grain, texture or markings of wood include, but are not limited to, paper, aluminum, high pressure laminate (“HPL”), MDF, medium density overlay (“MDO”), and phenolic film). Additionally, the face veneer of hardwood and decorative plywood may be sanded, smoothed or given a “distressed” appearance through such methods as hand-scraping or wire brushing. The face veneer may be stained.

The scope of the investigation excludes the following items: (1) Structural plywood (also known as “industrial plywood” or “industrial panels”) that is manufactured and stamped to meet U.S. Products Standard PS 1-09 for Structural Plywood (including any revisions to that standard or any substantially equivalent international standard intended for structural plywood), including but not limited to the “bond performance” requirements set forth at paragraph 5.8.6.4 of that Standard and the performance criteria detailed at Table 4 through 10 of that Standard; (2) products which have a face and back veneer of cork; (3) multilayered wood flooring, as described in the antidumping duty and countervailing duty orders on Multilayered Wood Flooring from the People's Republic of China, Import Administration, International Trade Administration, U.S. Department of Commerce Investigation Nos. A-570-970 and C-570-971 (published December 8, 2011); (4) plywood which has a shape or design other than a flat panel.

Imports of the subject merchandise are provided for under the following subheadings of the Harmonized Tariff Schedule of the United States (“HTSUS”): 4412.10.0500; 4412.31.0520; 4412.31.0540; 4412.31.0560; 4412.31.2510; 4412.31.2520; 4412.31.4040; 4412.31.4050; 4412.31.4060; 4412.31.4070; 4412.31.5135; 4412.31.5155; 4412.31.5165; 4412.31.5175; 4412.31.6000; 4412.31.9100; 4412.32.0520; 4412.32.0540; 4412.32.0560; 4412.32.2510; 4412.32.2520; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3111; 4412.94.3121; 4412.94.3131; 4412.94.3141; 4412.94.3160; 4412.94.3171; 4412.94.4100; 4412.94.6000; 4412.94.7000; 4412.94.8000; 4412.94.9000; 4412.99.0600; 4412.99.1020; 4412.99.1030; 4412.99.1040; 4412.99.3110; 4412.99.3120; 4412.99.3130; 4412.99.3140; 4412.99.3150; 4412.99.3160; 4412.99.3170; 4412.99.4100; 4412.99.5710; 4412.99.6000; 4412.99.7000; 4412.99.8000; 4412.99.9000; 4412.10.9000; 4412.31.4080; 4412.32.0570; 4412.32.2530; 4412.94.5100; 4412.94.9500; 4412.99.5115; and 4412.99.9500.

While HTSUS subheadings are provided for convenience and customs purposes, the written description of the subject merchandise as set forth herein is dispositive.

Methodology

The Department has conducted this investigation in accordance with section 731 of the Act. Export prices have been calculated in accordance with section 772 of the Act. Because the PRC is a non-market economy within the meaning of section 771(18) of the Act, normal value (“NV”) has been calculated in accordance with section 773(c). Specifically, the Department preliminarily selected the Philippines as the surrogate country, which is economically comparable to the PRC and is a significant producer of comparable merchandise. Thus, we calculated NV using Philippine prices, when available, to value the respondents' factors of production (“FOPs”).

For a full description of the methodology underlying our conclusions, see “Decision Memorandum for Preliminary Determination for the Antidumping Duty Investigation of Hardwood and Decorative Plywood from the People's Republic of China,” (“Preliminary Decision Memorandum”) from Christian Marsh, Deputy Assistant Secretary for Antidumping and Countervailing Duty Operations to Paul Piquado, Assistant Secretary for Import Administration, dated concurrently with this determination and hereby adopted by this notice. The Preliminary Decision Memorandum is a public document and is made available to the public via Import Administration's Antidumping and Countervailing Duty Centralized Electronic Service System (“IA ACCESS”). IA ACCESS is available to registered users at https://iaaccess.trade.gov and in the Department's Central Records Unit, located in room 7046 of the main Department of Commerce building. In addition, a complete version of the Preliminary Decision Memorandum can be found on the Internet at http://www.trade.gov/ia/. The signed Preliminary Decision Memorandum and the electronic versions of the Preliminary Decision Memorandum are identical in content.

Preliminary Determination

The preliminary weighted-average antidumping duty (“AD”) margin percentages are as follows:

¹ Jiangyang Group consists of Xuzhou Jiangyang Wood Industries Co., Ltd. and Xuzhou Jiangheng Wood Products Co., Ltd.

Exporter | Producer | Percent margin
Linyi San Fortune Wood Co., Ltd | Linyi San Fortune Wood Co., Ltd | 0.62
Jiangyang Group¹ | Jiangyang Group | 1.83
Anhui Tiansen Trading Co., Ltd | Linyi City Fei County Jianxin Boards Factory | 22.14
Anhui Tiansen Trading Co., Ltd | Xuzhou Dayuan Wooden Industry Co., Ltd | 22.14
Anhui Tiansen Trading Co., Ltd | Linyi Yiming Wooden Industry Co., Ltd | 22.14
Anhui Tiansen Trading Co., Ltd | Linyi Xicheng Wooden Industry Co., Ltd | 22.14
Anhui Tiansen Trading Co., Ltd | Linyi Dazhong Wooden Industry Co., Ltd | 22.14
Anhui Wanmu Wood Co., Ltd | Anhui Wanmu Wood Co., Ltd | 22.14
Anhui Xinyuanda Wood Co., Ltd | Anhui Xinyuanda Wood Co., Ltd | 22.14
Anji Hefeng Bamboo & Wood Industry Co., Ltd | Anji Hefeng Bamboo & Wood Industry Co., Ltd | 22.14
Anji Qichen Bamboo Industry Co., Ltd | Anji Qichen Bamboo Industry Co., Ltd | 22.14
Celtic Co., Ltd | Linyi Celtic Wood Co., Ltd | 22.14
Dehua Tb Industry & Trade Company Limited | Zhejiang Jufeng Wood Co., Ltd | 22.14
Dehua Tb Industry & Trade Company Limited | Dehua Tb New Decoration Material Co., Ltd | 22.14
Dehua Tb Industry & Trade Company Limited | Zhangjiagang Jiuli Wood Co., Ltd | 22.14
Zhejiang Dehua Tb Import & Export Co., Ltd | Zhejiang Jufeng Wood Co., Ltd | 22.14
Zhejiang Dehua Tb Import & Export Co., Ltd | Dehua Tb New Decoration Material Co., Ltd | 22.14
Zhejiang Dehua Tb Import & Export Co., Ltd | Zhangjiagang Jiuli Wood Co., Ltd | 22.14
Deqing Dajiang Import and Export Co., Ltd | Fengxian Fangyuan Wood Industry Co., Ltd | 22.14
Deqing Dajiang Import and Export Co., Ltd | Linyi Rui Tong Wood Co., Ltd | 22.14
Deqing Dajiang Import and Export Co., Ltd | Linyi Tongxin Wood Industry Co., Ltd | 22.14
Deqing Dajiang Import and Export Co., Ltd | Zhucheng Huifeng Wood Industry Co., Ltd | 22.14
Deqing Dajiang Import and Export Co., Ltd | Linyi Jiatai Wood Industry Co., Ltd | 22.14
Deqing Dajiang Import and Export Co., Ltd | Linyi City Lanshan District Qifeng Wood Factory | 22.14
Linyi City Dongfang Jinxin Economic & Trade Co., Ltd | Linyi City Dongfang Jinxin Economic & Trade Co., Ltd | 22.14
Fengxian Fangyuan Wood Co., Ltd | Fengxian Fangyuan Wood Co., Ltd | 22.14
Guangxi Guixun Panel Co | Guangxi Guixun Panel Co | 22.14
Highland Industries Inc | Linyi Lanshan District Linyu Wood Board Plant | 22.14
Highland Industries Inc | Feixian Jinhao Wood Board Plant | 22.14
Highland Industries Inc | Feixian Tanyi Youcheng Jiafu Wood Factory | 22.14
Highland Industries Inc | Feixn Tanyi Xinhengda Multilayer Wood Plant | 22.14
Highland Industries Inc | Hanlin Timber Products Company Ltd | 22.14
Highland Industries Inc | Jiangsu Suyuan Wood Company Ltd | 22.14
Highland Industries Inc | Linyi Feihong Wood Co., Ltd | 22.14
Highland Industries Inc | Linyi Hongde Wood Co., Ltd | 22.14
Highland Industries Inc | Linyi Huasheng Yongbin Wood Co., Ltd | 22.14
Highland Industries Inc | Linyi Jinghua Wood Ltd | 22.14
Highland Industries Inc | Linyi Maoling Wood Board Plant | 22.14
Highland Industries Inc | Linyi Quanjin Wood Co., Ltd | 22.14
Highland Industries Inc | Linyi Yongguo Wood Board Plant | 22.14
Highland Industries Inc | Linyi Zhangcheng Wood Co., Ltd | 22.14
Highland Industries Inc | Pingyi Futian Wood Board Plant | 22.14
Highland Industries Inc | Qiangsheng Wood Co., Ltd | 22.14
Highland Industries Inc | Shandong Union Wood | 22.14
Highland Industries Inc | Shenghe Wood Company Ltd | 22.14
Highland Industries Inc | Yishui Jinpeng Wood Co., Ltd | 22.14
Huainan Mengping Import and Export Co., Ltd | Linyi Qianfeng Panel Factory Co., Ltd | 22.14
Huainan Mengping Import and Export Co., Ltd | Linyi Dazhong Wood Co., Ltd | 22.14
Lingyi Huasheng Yongbin Wood Co., Ltd | Lingyi Huasheng Yongbin Wood Co., Ltd | 22.14
Jiangsu Dilun International Trading Co., Ltd | Xuzhou Weilin Wood Co. Ltd. (Weilin) | 22.14
Jiangsu Eastern Shengxin International Trading Co., Ltd | Xuzhou Huana Eraoor Wood Co. Ltd | 22.14
Jiangsu Eastern Shengxin International Trading Co., Ltd | Xuzhou Meilinsen Wood Wood Co. Ltd | 22.14
Jiangsu Eastern Shengxin International Trading Co., Ltd | Xuzhou Senya Wood Co. Ltd | 22.14
Jiangsu Happy Wood Industrial Group Co., Ltd | Jiangsu Happy Wood Industrial Group Co., Ltd | 22.14
Jiangsu Shengyang Industrial Joint Stock Co., Ltd | Jiangsu Shengyang Industrial Joint Stock Co., Ltd | 22.14
Jiangsu Simba Flooring Co., Ltd | Yixing Lion-King Timber Industry Co., Ltd | 22.14
Jiangsu Simba Flooring Co., Ltd | Jiangsu Simba Flooring Co., Ltd | 22.14
Jiangsu Top Point International Co., Ltd | Linyi Youcheng Jiafu Wood Products Co., Ltd | 22.14
Jiangsu Top Point International Co., Ltd | Linyi Xingying Wood Products Co., Ltd | 22.14
Jiangsu Top Point International Co., Ltd | Fengxian Jihe Wood Products Co., Ltd | 22.14
Jiangsu Top Point International Co., Ltd | Fengxian Zhongtuo Woods Co., Ltd | 22.14
Jiangsu Top Point International Co., Ltd | Linyi Huajun Wood Products Co., Ltd | 22.14
Jiangsu Top Point International Co., Ltd | Shandong Junxing Woods Co., Ltd | 22.14
Jiangsu Top Point International Co., Ltd | Linyi Hongtaiyang Woods Co., Ltd | 22.14
Jiangsu Top Point International Co., Ltd | Linyi Zhenyuan Wood Products Co., Ltd | 22.14
Jiangsu Top Point International Co., Ltd | Linyi Xicheng Wood Products Co., Ltd | 22.14
Jiangsu Top Point International Co., Ltd | Linyi Dongfang Juxin Wood Co., Ltd | 22.14
Jiangsu Top Point International Co., Ltd | Linyi Huifeng Wood Industry Co., Ltd | 22.14
Jiangsu Top Point International Co., Ltd | Xuzhou Zhongcai Wood Co., Ltd | 22.14
Jiangsu Top Point International Co., Ltd | Fengxian Fangyuan Wood Co., Ltd | 22.14
Jiangsu Top Point International Co., Ltd | Xuzhou Dayuan Wood Factory | 22.14
Jiangsu Top Point International Co., Ltd | Linyi Dashun Wood Co., Ltd | 22.14
Jiangsu Top Point International Co., Ltd | Pingyi Futian Wood Co., Ltd | 22.14
Jiangsu Top Point International Co., Ltd | Pingyi Xinda Wood Factory | 22.14
Jiangsu Top Point International Co., Ltd | Linyi Jiuda Wood Co., Ltd | 22.14
Jiangsu Top Point International Co., Ltd | Linyi Laite Wood Factory | 22.14
Jiangsu Top Point International Co., Ltd | Linyi Ruichen Wood Co., Ltd | 22.14
Jiangsu Top Point International Co., Ltd | Linyi City Lanshan District Fubao Wood Factory | 22.14
Jiangsu Top Point International Co., Ltd | Linyi Linyu Wood Factory | 22.14
Jiangsu Top Point International Co., Ltd | Linyi Shunda Wood Factory | 22.14
Jiangsu Top Point International Co., Ltd | Linyi City Lanshan District Bancheng Town Yulin Wood Factory | 22.14
Jiangsu Top Point International Co., Ltd | Qufu Shengtai Super Plywood Ltd | 22.14
Jiashan Dalin Wood Industry Co., Ltd | Jiashan Dalin Wood Industry Co., Ltd | 22.14
Jiangsu Vermont Wood Products Co., Ltd | Jiangsu Vermont Wood Products Co., Ltd | 22.14
Jiaxing Brilliant Import & Export Co., Ltd | Jiaxing Layo Decoration Materials Co., Ltd | 22.14
Jiaxing Gsun Imp. & Exp. Co., Ltd | Linyi Linhai Wood Co., Ltd | 22.14
Jiaxing Gsun Imp. & Exp. Co., Ltd | Shandong Fengtai Wood Co., Ltd | 22.14
Jiaxing Gsun Imp. & Exp. Co., Ltd | Feixian Hongsheng Wood Co., Ltd | 22.14
Jiaxing Gsun Imp. & Exp. Co., Ltd | Linyi Jianxin Wood Co., Ltd | 22.14
Jiaxing Gsun Imp. & Exp. Co., Ltd | Linyi Dayong Wood Co., Ltd | 22.14
Jiaxing Gsun Imp. & Exp. Co., Ltd | Linyi Yutai Timber Co., Ltd | 22.14
Jiaxing Gsun Imp. & Exp. Co., Ltd | Zhucheng Huifeng Wood Industry Co., Ltd | 22.14
Jiaxing Gsun Imp. & Exp. Co., Ltd | Linyi Dashun Wood Co., Ltd | 22.14
Jiaxing Gsun Imp. & Exp. Co., Ltd | Linyi Huifeng Wood Industry Co., Ltd | 22.14
Jiaxing Hengtong Wood Co., Ltd | Jiaxing Hengtong Wood Co., Ltd | 22.14
Jiaxing Kaochuan Woodwork Co., Ltd | Jiaxing Kaochuan Woodwork Co., Ltd | 22.14
Joc Yuantai International Trading Co., Ltd | Linyi Huasheng Yongbin Wood Corp | 22.14
Joc Yuantai International Trading Co., Ltd | Fengxian Jihe Wood Co., Ltd | 22.14
Joc Yuantai International Trading Co., Ltd | Xuzhou Dayuan Wood Factory | 22.14
Joc Yuantai International Trading Co., Ltd | Linyi Linyu Wood Factory | 22.14
Joc Yuantai International Trading Co., Ltd | Linyi Lanshan District Fubo Woods Factory | 22.14
Langfang Baomujie Wood Co., Ltd | Langfang Baomujie Wood Co., Ltd | 22.14
Larkcop International Co., Ltd | Xuzhou Camry Wood Co., Ltd | 22.14
Leadwood Industrial Corp | Leadwood Industrial Corp | 22.14
Lianyungang Penghai International Trading Co., Ltd | Linyi Linxiang Boards Factory | 22.14
Lianyungang Yuantai International Trade Co., Ltd | Linyi Huifeng Wood Industry Co., Ltd | 22.14
Lianyungang Yuantai International Trade Co., Ltd | Shandong Union Wood Co., Ltd | 22.14
Lianyungang Yuantai International Trade Co., Ltd | Linyi Ruichen Economy and Trade Co., Ltd | 22.14
Lianyungang Yuantai International Trade Co., Ltd | Linyi Jinghua Wood Co., Ltd | 22.14
Lianyungang Yuantai International Trade Co., Ltd | Pizhou Jiangshan Wood Co., Ltd | 22.14
Lianyungang Yuantai International Trade Co., Ltd | Xuzhou Longyuan Wood Co., Ltd | 22.14
Lianyungang Yuantai International Trade Co., Ltd | Xuzhou Zhongcai Wood Co., Ltd | 22.14
Lianyungang Yuantai International Trade Co., Ltd | Linyi Baoshan Wood Co., Ltd | 22.14
Lianyungang Yuantai International Trade Co., Ltd | Linyi Quanjin Wood Co., Ltd | 22.14
Lianyungang Yuantai International Trade Co., Ltd | Shandong Compete Wood Co., Ltd | 22.14
Lianyungang Yuantai International Trade Co., Ltd | Xinyi Chaohua Wood Co., Ltd | 22.14
Lianyungang Yuantai International Trade Co., Ltd | Feixian Hongqiang Wood Co., Ltd | 22.14
Lianyungang Yuantai International Trade Co., Ltd | Xinyi Lujiang Wood Co., Ltd | 22.14
Lianyungang Yuantai International Trade Co., Ltd | Linyi Dashun Woods Co., Ltd | 22.14
Lianyungang Yuantai International Trade Co., Ltd | Pizhou Jinguoyuan Wood Co., Ltd | 22.14
Linyi Anshun Timber Co., Ltd | Linyi Anshun Timber Co., Ltd | 22.14
Linyi Dahua Wood Co., Ltd | Linyi Dahua Wood Co., Ltd | 22.14
Linyi City Dongfang Jinxin Economic & Trade Co., Ltd | Linyi City Dongfang Jinxin Economic & Trade Co., Ltd | 22.14
Linyi Dongfangjuxin Wood Co., Ltd | Linyi Dongfangjuxin Wood Co., Ltd | 22.14
Linyi Evergreen Wood Co., Ltd | Linyi Evergreen Wood Co., Ltd | 22.14
Linyi Glary Plywood Co., Ltd | Linyi Glary Plywood Co., Ltd | 22.14
Linyi Hengsheng Wood Industry Co., Ltd | Linyi Hengsheng Wood Industry Co., Ltd | 22.14
Linyi Huifeng Wood Industry Co., Ltd | Linyi Huifeng Wood Industry Co., Ltd | 22.14
Linyi Jiahe Wood Industry Co., Ltd | Linyi Jiahe Wood Industry Co., Ltd | 22.14
Linyi Kaier International Trade Co., Ltd | Linyi Lianyi Wood Co., Ltd | 22.14
Linyi King Import and Export Co., Ltd | Linyi Celtic Wood Co., Ltd | 22.14
Linyi Linhai Wood Co., Ltd | Linyi Linhai Wood Co., Ltd | 22.14
Linyi Mingzhu Wood Co., Ltd | Linyi Mingzhu Wood Co., Ltd | 22.14
Linyi Tianhe Wooden Industry Co., Ltd | Linyi Tianhe Wooden Industry Co., Ltd | 22.14
Linyi Zhongtai Import and Export Co., Ltd | Linyi Cathay Pacific Wood Factory | 22.14
Suzhou Oriental Dragon Import and Export Corp. Ltd | Linyi City Qunxiang Wood Corp | 22.14
Suzhou Oriental Dragon Import and Export Corp. Ltd | Linyi Huachengyongbin Wood Corp | 22.14
Suzhou Oriental Dragon Import and Export Corp. Ltd | Linyi City Tiancai Wood Corp | 22.14
Suzhou Oriental Dragon Import and Export Corp. Ltd | Shandong Jinqiu Wood Corp | 22.14
Suzhou Oriental Dragon Import and Export Corp. Ltd | Linyi City Jinghua Wood Corp | 22.14
Suzhou Oriental Dragon Import and Export Corp. Ltd | Linyi City Yongsen Wood Corp | 22.14
Suzhou Oriental Dragon Import and Export Corp. Ltd | Linyi Tianhe Wood Factory | 22.14
Suzhou Oriental Dragon Import and Export Corp. Ltd | Juxian Dechang Wood Factory | 22.14
Suzhou Oriental Dragon Import and Export Corp. Ltd | Linyi Sanli Wood Factory | 22.14
Suzhou Oriental Dragon Import and Export Corp. Ltd | Xuzhou Dayuan Wood Factory | 22.14
Suzhou Oriental Dragon Import and Export Corp. Ltd | Feng County Zhongtuo Wood Factory | 22.14
Suzhou Oriental Dragon Import and Export Corp. Ltd | Feng County Shuangxingyuan Wood Factory | 22.14
Suzhou Oriental Dragon Import and Export Corp. Ltd | Linyi Jinhao Wood Factory | 22.14
Suzhou Oriental Dragon Import and Export Corp. Ltd | Suzhou Hengzheng Wood Co., Ltd | 22.14
Suzhou Oriental Dragon Import and Export Corp. Ltd | Jiangsu Vermont Wood | 22.14
Suzhou Oriental Dragon Import and Export Corp. Ltd | Linyi Dahua Wood Co., Ltd | 22.14
Suzhou Oriental Dragon Import and Export Corp. Ltd | Yinhe Machinery Chemical Limited Company of Shandong Province | 22.14
Suzhou Oriental Dragon Import and Export Corp. Ltd | Suqian Bairun Wood Industry Co., Ltd | 22.14
Suzhou Oriental Dragon Import and Export Corp. Ltd | Shandong Anxin Timber Co., Ltd | 22.14
Pacific Plywood Co., Ltd | Pacific Plywood Co., Ltd | 22.14
Pingyi Jinniu Wood Co., Ltd | Pingyi Jinniu Wood Co., Ltd | 22.14
Pizhou Hengxing International Trade Co., Ltd | Xuzhou Fuyuan Timber Co., Ltd. (Fuyuan) | 22.14
Qingdao King Sports Products Technology Co., Ltd | Anhui Fuyang Qinglin Wood Products Co., Ltd | 22.14
Qingdao King Sports Products Technology Co., Ltd | Feixian Tanyi Youchengjiafu Wood Products Co., Ltd | 22.14
Qingdao King Sports Products Technology Co., Ltd | Fengxian Jihe Wood Products Co., Ltd | 22.14
Qingdao King Sports Products Technology Co., Ltd | Feixian Longmen Wood Products Co., Ltd | 22.14
Qingdao King Sports Products Technology Co., Ltd | Linyi Xicheng Wood Products Co., Ltd | 22.14
Qingdao King Sports Products Technology Co., Ltd | Feixian Guangyuan Wood Products Co., Ltd | 22.14
Qingdao King Sports Products Technology Co., Ltd | Linyi Huifeng Wood Insustry Co., Ltd | 22.14
Qingdao King Sports Products Technology Co., Ltd | Cangshan Hongrui Wood Products Co., Ltd | 22.14
Qingdao King Sports Products Technology Co., Ltd | Shandong Union Wood Co., Ltd | 22.14
Qingdao King Sports Products Technology Co., Ltd | Xinyi Chaohua Wood Products Co., Ltd | 22.14
Qingdao King Sports Products Technology Co., Ltd | Fengxian Zhongtuo Wood Products Co., Ltd | 22.14
Qingdao King Sports Products Technology Co., Ltd | Fengxian Shuangxingyuan Wood Products Co., Ltd | 22.14
Qingdao King Sports Products Technology Co., Ltd | Yutai Zezhong Wood Products Co., Ltd | 22.14
Qingdao King Sports Products Technology Co., Ltd | Linyi Qiangsheng Wood Products Co., Ltd | 22.14
Qingdao King Sports Products Technology Co., Ltd | Shandong Lufeng Chaoyang Wood Products Co., Ltd | 22.14
Qingdao King Sports Products Technology Co., Ltd | Linyi Junxing Wood Products Co., Ltd | 22.14
Qingdao King Sports Products Technology Co., Ltd | Linyi Yiming Wood Products Co., Ltd | 22.14
Qingdao King Sports Products Technology Co., Ltd | Linyi Jianping Wood Products Co., Ltd | 22.14
Qingdao King Sports Products Technology Co., Ltd | Linyi Feihong Wood Products Co., Ltd | 22.14
Qingdao King Sports Products Technology Co., Ltd | Linyi Jinghua Wood Co., Ltd | 22.14
Qingdao King Sports Products Technology Co., Ltd | Fengxian Zhongtuo Wood Co., Ltd | 22.14
Qingdao Top P&Q International Corp | Feixian Tanyi Youchengjiafu Wood Products Co., Ltd | 22.14
Qingdao Top P&Q International Corp | Feixian Xingying Wood Produts Co., Ltd | 22.14
Qingdao Top P&Q International Corp | Feixian Tanyi Hongtaiyang Wood Produts Co., Ltd | 22.14
Qingdao Top P&Q International Corp | Shandong Union Wood Co., Ltd | 22.14
Qingdao Top P&Q International Corp | Xinyi Chaohua Wood Products Co., Ltd | 22.14
Qingdao Top P&Q International Corp | Feixian Hongsheng Wood Products Co., Ltd | 22.14
Qingdao Top P&Q International Corp | Shandong Ningjin Runkang Wood Products Co., Ltd | 22.14
Qingdao Top P&Q International Corp | Linyi Dahua Wood Product Co., Ltd | 22.14
Qingdao Top P&Q International Corp | Shandong Zhengda Industry and Trad Development Co., Ltd | 22.14
Qingdao Top P&Q International Corp | Feixian Longmen Plywood Co., Ltd | 22.14
Qingdao Top P&Q International Corp | Linyi Huasheng Yongbin Wood Co., Ltd | 22.14
Qingdao Top P&Q International Corp | Linyi Jiacheng Wood Products Co., Ltd | 22.14
Qingdao Top P&Q International Corp | Yutai Zezhong Wood Product Co., Ltd | 22.14
Qingdao Top P&Q International Corp | Linyi Qianfeng Wood Products Co., Ltd | 22.14
Qingdao Top P&Q International Corp | Xuzhou Yujinfang Wood Products Co., Ltd | 22.14
Qingdao Top P&Q International Corp | Fengxian Zhongtuo Wood Co., Ltd | 22.14
Qingdao Top P&Q International Corp | Linyi Jinqiu Wood Products Co., Ltd | 22.14
Qingdao Top P&Q International Corp | Linyi Laite Plywood Factory | 22.14
Qingdao Top P&Q International Corp | Linyi City Lanshan District Yixing Wood Produts Co., Ltd | 22.14
Qingdao Top P&Q International Corp | Xuzhou Qinyi Wood Products Co., Ltd | 22.14
Qingdao Top P&Q International Corp | Linyi Linhai Wood Co., Ltd | 22.14
Qingdao Top P&Q International Corp | Linyi Qunshan Wood Products Co., Ltd | 22.14
Qingdao Top P&Q International Corp | Linyi Hongpanyong Wood Products Co., Ltd | 22.14
Qingdao Top P&Q International Corp | Feixian Guangyuan Wood Products Co., Ltd | 22.14
Qufu Luhan Woodwork Co., Ltd | Qufu Luhan Woodwork Co., Ltd | 22.14
Qufu Shengfu Wood Work Co., Ltd | Qufu Shengfu Wood Work Co., Ltd | 22.14
Shandong Anxin Timber Co., Ltd | Shandong Anxin Timber Co., Ltd | 22.14
Shangdong Huaxin Jiasheng Wood Co., Ltd | Shangdong Huaxin Jiasheng Wood Co., Ltd | 22.14
Shandong Jinli Imp.&Exp. Co., Ltd | Shandong Province Shouguang City Houzhen Town Fuli Plywood Factory | 22.14
Shandong Qishan International Trading Co., Ltd | Linyi Tuopu Zhixin Wooden Industry Co., Ltd | 22.14
Shandong Qishan International Trading Co., Ltd | Cangshan County Hongrui Wooden Industry Co., Ltd | 22.14
Shandong Union Wood Co., Ltd | Shandong Union Wood Co., Ltd | 22.14
Shandong Xingang Group | Shandong Xingang Group | 22.14
Shanghai Aviation Import & Export Co., Ltd | Zhonglin Enterprise (Dangshan) Co., Ltd | 22.14
Shanghai Aviation Import & Export Co., Ltd | Pingyi County Futian Boards Factory | 22.14
Shanghai Aviation Import & Export Co., Ltd | Shandong Zhengda Industrial Development Co., Ltd | 22.14
Shanghai Futuwood Trading Co., Ltd | Linyi Jinghua Wood Co., Ltd | 22.14
Shanghai Futuwood Trading Co., Ltd | Linyi Lianbang Wood Co., Ltd | 22.14
Shanghai Futuwood Trading Co., Ltd | Linyi Jiacheng Wood Co., Ltd | 22.14
Shanghai Futuwood Trading Co., Ltd | Shandong Fengtai Wood Co., Ltd | 22.14
Shanghai Futuwood Trading Co., Ltd | Linyi Huada Wood Co., Ltd | 22.14
Shanghai Futuwood Trading Co., Ltd | Linyi Mingzhu Wood Co., Ltd | 22.14
Shanghai Futuwood Trading Co., Ltd | Linyi Jinkun Wood Co., Ltd | 22.14
Shanghai Futuwood Trading Co., Ltd | Linyi Tenghu Wood Co., Ltd | 22.14
Shanghai Futuwood Trading Co., Ltd | Linyi Kaifeng Wooden Boards Factory | 22.14
Shanghai Futuwood Trading Co., Ltd | Linyi Laite Boards Factory | 22.14
Shanghai Futuwood Trading Co., Ltd | Linyi Yuqiao Boards Factory | 22.14
Shanghai Futuwood Trading Co., Ltd | Yishui Senbao Wood Co., Ltd | 22.14
Shanghai Futuwood Trading Co., Ltd | Yishui Zhili Wood Co., Ltd | 22.14
Shanghai Futuwood Trading Co., Ltd | Linyi Tuopu Zhixin Wooden Industry Co., Ltd | 22.14
Shanghai Futuwood Trading Co., Ltd | Shandong Lufeng Chaoyang Wood Co., Ltd | 22.14
Shanghai Futuwood Trading Co., Ltd | Shandong Huaxin Jiasheng Wood Co., Ltd | 22.14
Shanghai Futuwood Trading Co., Ltd | Yishui Hongtai Wood Co., Ltd | 22.14
Shanghai Futuwood Trading Co., Ltd | Feixian Huafeng Wood Co., Ltd | 22.14
Shanghai Futuwood Trading Co., Ltd | Linyi Geluobao Artificial Board Factory | 22.14
Shanghai Futuwood Trading Co., Ltd | Linyi Futai Wood Co., Ltd | 22.14
Shanghai Futuwood Trading Co., Ltd | Linyi Yutai Wood Co., Ltd | 22.14
Shanghai Futuwood Trading Co., Ltd | Feixian Yuansen Composite Board Factory | 22.14
Shanghai Futuwood Trading Co., Ltd | Linyi Xincheng Wooden Products General Factory, Feixian Branch | 22.14
Shanghai Futuwood Trading Co., Ltd | Linyi Xinli Wood Co., Ltd | 22.14
Shanghai Futuwood Trading Co., Ltd | Linyi Zhongxinsen Wood Co., Ltd | 22.14
Shanghai Futuwood Trading Co., Ltd | Mengyin Hongxin Wood Co., Ltd | 22.14
Shanghai Luli Trading Co., Ltd | Feixian Tanyi Town Hongtaiyang Wood Co., Ltd | 22.14
Shanghai Luli Trading Co., Ltd | Xuzhou Yujinfang Wood Co., Ltd | 22.14
Shanghai Luli Trading Co., Ltd | Shandong Huaxin Jiasheng Wood Co., Ltd | 22.14
Shanghai Luli Trading Co., Ltd | Feixian Nanzhangzhuang Town Qingqi Wood Product Co., Ltd | 22.14
Shanghai Luli Trading Co., Ltd | Juxian Dechang Wood Co., Ltd | 22.14
Shanghai Mailin International Trade Co., Ltd | Xuzhou Camry Wood Co., Ltd | 22.14
Shanghai Mailin International Trade Co., Ltd | Fengxian Shuangxingyuan Wood Co., Ltd | 22.14
Shanghai Mailin International Trade Co., Ltd | Juxian Dechang Wood Co., Ltd | 22.14
Shanghai Mailin International Trade Co., Ltd | Pizhou Xuexin Wood Co., Ltd | 22.14
Shanghai Mailin International Trade Co., Ltd | Pizhou Jinguoyuan Wood Co., Ltd | 22.14
Shanghai S&M Trade Co., Ltd | Huaiyang Xiangyu Wood Industry Co., Ltd | 22.14
Shanghai S&M Trade Co., Ltd | Langfang Baomujie Wood Co., Ltd | 22.14
Shanghai S&M Trade Co., Ltd | Jiangsu Shuren Wood Industry Co., Ltd | 22.14
Shanghai Senda Fancywood Industry Co | Shanghai Senda Fancywood Industry Co | 22.14
Shouguang Sanyang Wood Industry Co., Ltd | Shouguang Sanyang Wood Industry Co., Ltd | 22.14
Siyang Enika International Trade Co., Ltd | Jiangsu Shuren Wood Industry Co., Ltd | 22.14
Siyang Enika International Trade Co., Ltd | Suqianshi Qiyi Plywood Co., Ltd | 22.14
Sumec International Technology Co., Ltd | Suqian Huilin Wood Industry Co., Ltd | 22.14
Sumec International Technology Co., Ltd | Yinli Lianyi Wood Industry Co., Ltd | 22.14
Sumec International Technology Co., Ltd | Linyi Dashun Wood Industry Co., Ltd | 22.14
Sumec International Technology Co., Ltd | Jiangsu Shuren Wood Industry Co., Ltd | 22.14
Sumec International Technology Co., Ltd | Linyi Yiming Wood Industry Co., Ltd | 22.14
Sumec International Technology Co., Ltd | Linyi Xicheng Wood Industry Co., Ltd | 22.14
Sumec International Technology Co., Ltd | Shandong Junxing Wood Industry Co., Ltd | 22.14
Sumec International Technology Co., Ltd | Xuzhou Zhongtai Wood Industry Co., Ltd | 22.14
Sumec International Technology Co., Ltd | Linyi Lanshan District Linyu Panel Factory | 22.14
Sumec International Technology Co., Ltd | Fengxian Jihe Wood Industry Co., Ltd | 22.14
Suqian Foreign Trade Co., Ltd | Pizhou Jiangshan Wood Co., Ltd | 22.14
Suqian Foreign Trade Co., Ltd | Suqian Bairun Wood Co., Ltd | 22.14
Suqian Hopeway International Trade Co., Ltd | Xuzhou Henglin Wood Co., Ltd | 22.14
Suqian Hopeway International Trade Co., Ltd | Qufu Shengda Wood Co., Ltd | 22.14
Suqian Hopeway International Trade Co., Ltd | Qufu Dongyuan Wood Co., Ltd | 22.14
Suqian Hopeway International Trade Co., Ltd | Xuzhou Fuyu Wood Co., Ltd | 22.14
Suqian Hopeway International Trade Co., Ltd | Linyi Dahua Wood Co., Ltd | 22.14
Suqian Hopeway International Trade Co., Ltd | Xuzhou Longyuan Wood Co., Ltd | 22.14
Suqian Hopeway International Trade Co., Ltd | Linyi Dazhong Wood Co.Ltd | 22.14
Suqian Hopeway International Trade Co., Ltd | Linyi Jinhua Wood Co., Ltd | 22.14
Suqian Hopeway International Trade Co., Ltd | Feixian Jianxin Wood Co., Ltd | 22.14
Suqian Hopeway International Trade Co., Ltd | Linyi Qianfeng Wood Co., Ltd | 22.14
Suqian Hopeway International Trade Co., Ltd | Pizhou Jiangshan Wood Co., Ltd | 22.14
Suqian Hopeway International Trade Co., Ltd | Jiangsu Vermont Wood Products Co., Ltd | 22.14
Suqian Hopeway International Trade Co., Ltd | Xuzhou Hongwei Wood Co., Ltd | 22.14
Suqian Hopeway International Trade Co., Ltd | Linyi Dashun Wood Co., Ltd | 22.14
Suqian Hopeway International Trade Co., Ltd | Linyi City Dongfang Jinxin Economic and Trade Co., Ltd | 22.14
Suqian Hopeway International Trade Co., Ltd | Guangxi Guigang Haixong Wood, Co., Ltd | 22.14
Suzhou Dongda Wood Co., Ltd | Suzhou Dongda Wood Co., Ltd | 22.14
Suzhou Fengshuwan Import and Export Trade Co., Ltd | Xuzhou Henglin Wood Co., Ltd | 22.14
Suzhou Fengshuwan Import and Export Trade Co., Ltd | Qufu Shengda Wood Co., Ltd | 22.14
Suzhou Fengshuwan Import and Export Trade Co., Ltd | Qufu Dongyuan Wood Co., Ltd | 22.14
Suzhou Fengshuwan Import and Export Trade Co., Ltd | Xuzhou Fuyu Wood Co., Ltd | 22.14
Suzhou Fengshuwan Import and Export Trade Co., Ltd | Linyi Dahua Wood Co., Ltd | 22.14
Bergey (Tianjin) International Co., Ltd | Linyi Huifeng Wood Industry Co., Ltd | 22.14
Bergey (Tianjin) International Co., Ltd | Suqian City Santai Wood Industry Co., Ltd | 22.14
Bergey (Tianjin) International Co., Ltd | Jiangsu Shuren Wood Industry Co., Ltd | 22.14
Jiangsu Vermont Wood Products Co., Ltd | Jiangsu Vermont Wood Products Co., Ltd | 22.14
Wenzhou Eita Import & Export Co., Ltd | Linyi Ruichen Economic and Trade Co., Ltd | 22.14
Wenzhou Eita Import & Export Co., Ltd | Hongye Wood Products Co., Ltd | 22.14
Wenzhou Eita Import & Export Co., Ltd | Sahngdaong Lianbang Wooden Co., Ltd | 22.14
Wenzhou Eita Import & Export Co., Ltd | Fei County Guangyuan Wood Product | 22.14
Wenzhou Eita Import & Export Co., Ltd | Pingyi County Jufeng Wood Products Co., Ltd | 22.14
Wenzhou Eita Import & Export Co., Ltd | Xuzhou Zhongda Cai Wood Products Co., Ltd | 22.14
Wenzhou Eita Import & Export Co., Ltd | Linyi Hengda Wood Products Co., Ltd | 22.14
Wenzhou Eita Import & Export Co., Ltd | Xuzhou Changchen Wood Products Co., Ltd | 22.14
Wenzhou Eita Import & Export Co., Ltd | Zhucheng Hailong Industry and Trade Co., Ltd | 22.14
Xuzhou Antop International Trade Co., Ltd | Xuzhou Anlian Wood Co., Ltd. (Anlian) | 22.14
Xuzhou Baoqi Wood Product Co., Ltd | Linyi Quanjin Wood Co., Ltd | 22.14
Xuzhou Baoqi Wood Product Co., Ltd | Linyi Huifeng Wood Industry Co., Ltd | 22.14
Xuzhou Baoqi Wood Product Co., Ltd | Xingying Wood Co., Ltd | 22.14
Xuzhou Baoqi Wood Product Co., Ltd | Linyi Lanshan District Rongxin Wood Packaging Plant | 22.14
Xuzhou Chengxin Wood Co., Ltd | Xuzhou Chengxin Wood Co., Ltd | 22.14
Xuzhou Ekea International Trade Co., Ltd | Cangshan Hongrui Wood Co., Ltd | 22.14
Xuzhou Ekea International Trade Co., Ltd | Linyi Tianwei Wood & Decorative Panel Factory Co., Ltd | 22.14
Xuzhou Ekea International Trade Co., Ltd | Fengxian Jihe Wood Co., Ltd | 22.14
Xuzhou Ekea International Trade Co., Ltd | Suzhou Shunfa Wood Co., Ltd | 22.14
Xuzhou Hansun Import & Export Co., Ltd | Xuzhou Zhongyuan Wood Co., Ltd. (Zhongyuan) | 22.14
Xuzhou Hongda Wood Co., Ltd | Xuzhou Hongda Wood Co., Ltd | 22.14
Xuzhou Pengyu Wood Products Co., Ltd | Xuzhou Pengyu Wood Products Co., Ltd | 22.14
Xuzhou Pinlin International Trade Co., Ltd | Anhui Xinyuanda Wood Co., Ltd | 22.14
Xuzhou Pinlin International Trade Co., Ltd | Feixian Xinyu Wood Co., Ltd | 22.14
Xuzhou Pinlin International Trade Co., Ltd | Fengxian Fangyuan Wood Co, Ltd | 22.14
Xuzhou Pinlin International Trade Co., Ltd | Linyi Changcheng Wood Co., Ltd | 22.14
Xuzhou Pinlin International Trade Co., Ltd | Linyi Huifeng Wood Industry Co., Ltd | 22.14
Xuzhou Pinlin International Trade Co., Ltd | Linyi Qunshan Wood Co., Ltd | 22.14
Xuzhou Pinlin International Trade Co., Ltd | Linyi Xinrui Wood Co., Ltd | 22.14
Xuzhou Pinlin International Trade Co., Ltd | Pizhou Jiangshan Wood Co., Ltd | 22.14
Xuzhou Pinlin International Trade Co., Ltd | Pizhou Jinguoyuan Wood Co., Ltd | 22.14
Xuzhou Pinlin International Trade Co., Ltd | Pizhou Xuexin Wood Co., Ltd | 22.14
Xuzhou Pinlin International Trade Co., Ltd | Shandong Hualianjushan Wood Co., Ltd | 22.14
Xuzhou Pinlin International Trade Co., Ltd | Shandong Union Wood Co., Ltd | 22.14
Xuzhou Pinlin International Trade Co., Ltd | Xinyi Zhongcai Wood Co., Ltd | 22.14
Xuzhou Pinlin International Trade Co., Ltd | Xuzhou Anlian Wood Co., Ltd | 22.14
Xuzhou Pinlin International Trade Co., Ltd | Xuzhou Changcheng Wood Co., Ltd | 22.14
Xuzhou Pinlin International Trade Co., Ltd | Xuzhou Fuyu Wood Co., Ltd | 22.14
Xuzhou Pinlin International Trade Co., Ltd | Xuzhou Hongmei Wood Development Co., Ltd | 22.14
Xuzhou Pinlin International Trade Co., Ltd | Xuzhou Longyuan Wood Co., Ltd | 22.14
Xuzhou Pinlin International Trade Co., Ltd | Xuzhou Yuanhao Wood Industry Co., Ltd | 22.14
Xuzhou Pinlin International Trade Co., Ltd | Yanzhou Huashiluyuan Wood Development Co., Ltd | 22.14
Xuzhou Runjin Import & Export Trade Co., Ltd | Xuzhou Camry Wood Co., Ltd. (Camry) | 22.14
Xuzhou Runjin Import & Export Trade Co., Ltd | Lianyungang Wonderful Wood Co., Ltd. (Wonderful Wood) | 22.14
Xuzhou Sanli Wood Co., Ltd | Xuzhou Sanli Wood Co., Ltd | 22.14
Xuzhou Shenghe Wood Co., Ltd | Xuzhou Shenghe Wood Co., Ltd | 22.14
Xuzhou Shengping Import & Export Co., Ltd | Fengxian Jihe Wood Industry Co. Ltd | 22.14
Xuzhou Shengping Import & Export Co., Ltd | Fengxian Weiheng Wood Co., Ltd | 22.14
Xuzhou Shengping Import & Export Co., Ltd | Xuzhou Longyuan Wood Co., Ltd | 22.14
Xuzhou Sincere Wood Co., Ltd | Xuzhou Sincere Wood Co., Ltd | 22.14
Xuzhou Tianshan Wood Co., Ltd | Xuzhou Tianshan Wood Co., Ltd | 22.14
Xuzhou Timber International Trade Co., Ltd | Xuzhou Jiangheng Wood Products Co., Ltd | 22.14
Xuzhou Timber International Trade Co., Ltd | Xuzhou Jiangyang Wood Industries Co., Ltd | 22.14
Xuzhou Timber International Trade Co., Ltd | Xuzhou Changcheng Wood Co., Ltd | 22.14
Xuzhou Timber International Trade Co., Ltd | Hebei Tongli Wood Co., Ltd | 22.14
Xuzhou Timber International Trade Co., Ltd | Linyi Mingzhu Wood Co., Ltd | 22.14
Xuzhou Timber International Trade Co., Ltd | Qufu City Shengda Wooden Industry Co., Ltd | 22.14
Xuzhou Timber International Trade Co., Ltd | Cangshan Hongrui Wood Co., Ltd | 22.14
Xuzhou Timber International Trade Co., Ltd | Linyi Hualing Plywood Factory | 22.14
Xuzhou Timber International Trade Co., Ltd | Linyi Quanjin Wood Co., Ltd | 22.14
Xuzhou Timber International Trade Co., Ltd | Linyi Xinrui Wood Co., Ltd | 22.14
Xuzhou Timber International Trade Co., Ltd | Linyi Huifeng Wood Co., Ltd | 22.14
Xuzhou Timber International Trade Co., Ltd | Linyi Dazhong Wood Co., Ltd | 22.14
Xuzhou Timber International Trade Co., Ltd | Pizhou Xuexin Wood Co., Ltd | 22.14
Xuzhou Weilin Wood Co., Ltd | Xuzhou Weilin Wood Co., Ltd | 22.14
Xuzhou Zhongda Building Materials Co., Ltd | Linyi Jianshun Wood Co., Ltd. (Jianshun) | 22.14
Xuzhou Zhongda Building Materials Co., Ltd | Xuzhou Runcheng Wood Co., Ltd. (Runcheng) | 22.14
Yijiang Wood Products (Kunshan) Co., Ltd | Yijiang Wood Products (Kunshan) Co., Ltd | 22.14
Yinhe Machinery Chemical Limited Company of Shandong Province | Yinhe Machinery Chemical Limited Company of Shandong Province | 22.14
Yishui Hongtai Wood-Made Co., Ltd | Yishui Hongtai Wood-Made Co., Ltd | 22.14
Yutai Zezhong Wood Co., Ltd | Yutai Zezhong Wood Co., Ltd | 22.14
Zhejiang Anji Tiancheng Flooring Co., Ltd | Zhejiang Anji Tiancheng Flooring Co., Ltd | 22.14
Zhejiang Shenghua Yunfeng Import & Export Co., Ltd | Zhejiang Deqing Shengqiang Wood Co., Ltd | 22.14
Zhejiang Xinyuan Bamboo Products Co., Ltd | Zhejiang Xinyuan Bamboo Products Co., Ltd | 22.14
Zhejiang Yongyu Bamboo Joint-Stock Co., Ltd | Zhejiang Yongyu Bamboo Joint-Stock Co., Ltd | 22.14
PRC-Wide Entity² |  | 63.96

Disclosure and Public Comment

² This rate also applies to the companies listed in Attachment II of the Preliminary Decision Memorandum.

We will disclose the calculations performed to parties in this proceeding within five days of the date of publication of this notice in accordance with 19 CFR 351.224(b). Case briefs or other written comments may be submitted to the Assistant Secretary for Import Administration no later than seven days after the date on which the final verification report is issued in this proceeding and rebuttal briefs, limited to issues raised in case briefs, may be submitted no later than five days after the deadline date for case briefs.³ Additionally the Department will consider case briefs regarding scope-related issues filed by interested parties within 30 days after the date of publication of this notice in the Federal Register. Interested parties may file rebuttal briefs regarding scope issues, limited to those issues which are raised in the scope case briefs. The Department will consider scope-related rebuttal briefs filed not later than five days after the time limit for filing scope case briefs. Additionally, all scope-related case and rebuttal briefs are required to be filed on the record of this investigation and the companion countervailing duty (“CVD”) investigation identically. A table of contents, list of authorities used and an executive summary of issues should accompany any briefs submitted to the Department. This summary should be limited to five pages total, including footnotes.

³ See 19 CFR 351.309.

Interested parties, who wish to request a hearing, or to participate if one is requested, must submit a written request to the Assistant Secretary for Import Administration, U.S. Department of Commerce, filed electronically using Import Administration's IA ACCESS. An electronically filed document must be received successfully in its entirety by the Department's electronic records system, IA ACCESS, by 5 p.m. Eastern Standard Time, within 30 days after the date of publication of this notice.⁴ Requests should contain the party's name, address, and telephone number, the number of participants, and a list of the issues to be discussed. If a request for a hearing is made, the Department intends to hold the hearing at the U.S. Department of Commerce, 14th Street and Constitution Avenue NW., Washington, DC 20230, at a time and location to be determined. Parties should confirm by telephone the date, time, and location of the hearing two days before the scheduled date.

⁴ See 19 CFR 351.310(c).

For the final determination in this investigation interested parties may submit publicly available information to value the FOPs within 40 days after the publication of this preliminary determination.⁵ Pursuant to section 735(a)(1) of the Act, we will make our final determination no later than 75 days after the date of publication of this preliminary determination.

⁵ See 19 CFR 351.301(c)(3)(i). In accordance with 19 CFR 351.301(c)(1), for the final determination of this investigation, interested parties may submit factual information to rebut, clarify, or correct factual information submitted by any other interested party less than ten days before, on, or after, the applicable deadline for submission of such factual information. However, the Department notes that 19 CFR 351.301(c)(1) permits new information only insofar as it rebuts, clarifies, or corrects information recently placed on the record. The Department generally will not accept the submission of additional, previously absent-from-the-record alternative surrogate value information. See Glycine from the People's Republic of China: Final Results of Antidumping Duty Administrative Review and Final Rescission, in Part, 72 FR 58809 (October 17, 2007), and accompanying Issues and Decision Memorandum at Comment 2. Additionally, for each piece of factual information submitted with surrogate value rebuttal comments, the interested party must provide a written explanation of what information that is already on the record of the ongoing proceeding the factual information is rebutting, clarifying, or correcting.

Suspension of Liquidation

In accordance with section 733(d) of the Act, with the exception of entries produced and exported by Linyi San Fortune Wood, Co., Ltd. and Jiangyang Group, the Department will instruct U.S. Customs and Border Protection (“CBP”) to suspend liquidation of all entries of plywood from the PRC, as described in the “Scope of the Investigation” section, entered, or withdrawn from warehouse, for consumption on or after the date of publication of this notice in the Federal Register.

Pursuant to 19 CFR 351.205(d), the Department will instruct CBP to require a cash deposit equal to the weighted-average amount by which NV exceeds U.S. price, adjusted where appropriate for export subsidies and estimated domestic subsidy pass-through,⁶ as follows: (1) The separate rate margin for the exporter/producer combinations listed in the table above will be the rate the Department has determined in this preliminary determination; (2) for all combinations of PRC exporters/producers of merchandise under consideration which have not received their own separate rate AD margin above, the cash-deposit rate will be the cash deposit rate established for the PRC-wide entity; and (3) for all non-PRC exporters of merchandise under consideration which have not received their own separate rate above, the cash-deposit rate will be the cash deposit rate applicable to the PRC exporter/producer combination that supplied that non-PRC exporter.

⁶ See sections 772(c)(1)(C) and 777A(f) of the Act, respectively. Unlike in administrative reviews, the Department calculates the adjustment for export subsidies in investigations not in the margin calculation program, but in the cash deposit instructions issued to the CBP. See Notice of Final Determination of Sales at Less Than Fair Value, and Negative Determination of Critical Circumstances: Certain Lined Paper Products from India, 71 FR 45012 (August 8, 2006), and accompanying Issues and Decision Memorandum at Comment 1.

We have not adjusted the preliminary determination AD margins for export subsidies because the Department did not find evidence of export subsidies in the companion CVD proceeding. Additionally, the Department has not adjusted the preliminary determination AD margins for estimated domestic subsidy pass-through because it has concluded that concurrent application of non-market economy ADs and CVDs do not necessarily and automatically result in overlapping remedies.⁷

⁷ See Preliminary Decision Memorandum.

International Trade Commission (“ITC”) Notification

In accordance with section 733(f) of the Act, we have notified the ITC of our preliminary affirmative determination of sales at LTFV. Section 735(b)(2) of the Act requires the ITC to make its final determination as to whether the domestic industry in the United States is materially injured, or threatened with material injury, by reason of imports of hardwood and decorative plywood, or sales (or the likelihood of sales) for importation, of the merchandise under consideration within 45 days of our final determination.

This determination is issued and published in accordance with sections 733(f) and 777(i)(1) of the Act.

Dated: April 29, 2013.
Paul Piquado,
Assistant Secretary for Import Administration.

List of Topics Discussed in the Preliminary Decision Memorandum

1. Initiation

2. Period of Investigation

3. Postponement of Preliminary Determination

4. Scope of the Investigation

5. Scope Comments

6. Non-market Economy Country Status

7. Selection of Respondents

8. Surrogate Country

9. Surrogate Value Comments

10. Separate Rates

a. Separate Rate Recipients

b. Companies Not Receiving a Separate Rate

11. Margin for the Separate Rate Companies

12. Combination Rates

13. The PRC-Wide Entity

14. Application of Facts Available and Adverse Facts Available

15. Corroboration of Information

16. Affiliation/Single Entity

17. Date of Sale

18. Jiangyang's Reported Salvage Sales

19. Fair Value Comparisons

20. Export Price

21. Constructed Export Price

22. Normal Value

23. Factor Valuations Methodology

24. Determination To Apply an Alternative Methodology

25. Currency Conversion

26. Verification

27. Section 777A(f) of the Act

28. International Trade Commission Notification

29. Conclusion

[FR Doc. 2013-10532 Filed 5-2-13; 8:45 am]

BILLING CODE 3510-DS-P